FEDERAL MARITIME COMMISSION

[Docket No. 01-06]

Exclusive Tug Franchises—-Marine Terminal Operators Serving the Lower Mississippi River; Order to Show Cause

Notice is given that, on June 11, 2001, the Federal Maritime Commission (“Commission”) served a Show Cause Order concerning exclusive tug franchises on the Lower Mississippi River. The Order directed certain marine terminal operators to show cause why: (1) their exclusive arrangements with certain tug companies are not unreasonable practices in violation of section 10(d)(1) of the Shipping Act of 1984, 46 U.S.C. app. 1709(d)(1), and/or result in undue or unreasonable preference or advantage or unreasonable prejudice or disadvantage in violation of section 10(d)(4) of the Shipping Act of 1984, 46 U.S.C. app. 1709(d)(4); and (2) the Commission should not order them to cease and desist from operating under these exclusive tug assist service arrangements, including publication of any terminal tariff or schedule which attempts to enforce or implement any provision related to the provision of such tug services.

The full text of the Order may be viewed on the Commission's home page at www.fmc.gov, or at the Office of the Secretary, Room 1046, 800 N. Capitol Street, NW, Washington, DC.

The Order names the following as respondents (“Respondents”):

ADM/Growmark River Systems, Inc.

Bunge Corporation

Cargill, Incorporated

Cenex Harvest States Cooperatives

CGB Bouys

Gulf Elevator & Transfer Co.

International Marine Terminals

L&L Fleeting, Inc.

Ormet Primary Aluminum Corporation

Peavey Company

St. James Stevedoring Co., Inc.

Zen-Noh Grain Corporation

The Commission's Bureau of Enforcement (“BOE”) has also been made a party to this proceeding.

The Order provides that the proceeding is limited to the submission of affidavits of facts and memoranda of law. Persons having an interest and desiring to intervene in the proceeding (“Intervenors”) must file a petition for leave to intervene in accordance with Rule 72 of the Commission's Rules of Practice and Procedure, 46 CFR § 502.72. Intervenors' petitions must be accompanied by memoranda of law and affidavits of fact, if any, and shall be filed pursuant to the following schedule:

—Affidavits of fact and memoranda of law filed by Respondents and any Intervenors in support of Respondents must be filed no later than July 18, 2001.

—Reply affidavits and memoranda of law must be filed by BOE and Intervenors in opposition to Respondents no later than August 17, 2001.

—Rebuttal affidavits and memoranda of law must be filed by Respondents and Intervenors in support of Respondents no later than September 17, 2001.

Requests for evidentiary hearing or oral argument must be filed no later than September 17, 2001. Such a request must set forth in detail the facts to be proved, the relevance of those facts to the issues in this proceeding, a description of the evidence which would be adduced, and why such evidence cannot be submitted by affidavit and/or explain why argument by memorandum is inadequate to present the party's case.

Documents submitted in this proceeding must be filed in accordance with Rule 118 of the Commission's Rules of Practice and Procedure, 46 CFR 502.118, and mailed directly to all parties of record. Pursuant to the terms of Rule 61 of the Commission's Rules of Practice and Procedure, 46 CFR 502.61, the Commission's final decision in this proceeding will be issued by March 18, 2002.

Bryant L. VanBrakle,
Secretary.

[FR Doc. 01-15350 Filed 6-15-01; 8:45 am]

BILLING CODE 6730-01-P